DEPARTMENT OF TRANSPORTATION

National Highway Traffic Safety Administration

Reports, Forms and Record Keeping Requirements; Agency Information Collection Activity Under OMB Review

AGENCY: National Highway Traffic Safety Administration (NHTSA), DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden.

DATES: Comments must be submitted on or before December 2, 2004.

FOR FURTHER INFORMATION CONTACT: Dr. George Mouchahoir at the National Highway Traffic Safety Administration (NHTSA), Office of Crashworthiness Standards, 202-366-4919. 400 Seventh Street, SW., Washington, DC 20590.

SUPPLEMENTARY INFORMATION: In compliance with the Paperwork Reduction Act of 1995 (44 U.S.C. 3501 et seq.), this notice announces that the Information Collection Request (ICR) abstracted below has been forwarded to the Office of Management and Budget (OMB) for review and comment. The ICR describes the nature of the information collections and their expected burden. A Federal Register notice that provided a 60-day comment period was published on June 27, 2003 (68 FR 38418, U.S. DOT Docket Number NHTSA-02-14038), and the agency received no comments.

National Highway Traffic Safety Administration

Title: Final Rule, response to petitions for reconsideration; Phase-in reporting requirements.

OMB Number: New.

Type of Request: New collection.

Abstract: NHTSA issued a final rule establishing FMVSS No. 225, “Child restraint anchorage systems,” in March 1999 (64 FR 10786). A final rule, response to petitions for reconsideration was prepared to respond to remaining issues raised by petitions for reconsideration of the agency's March 1999 final rule, and of the agency's previous responses to petitions, published in August 1999 (64 FR 47566) and July 2000 (65 FR 46628). The final rule was published on June 27, 2003, of the Federal Register (RIN 2127-AH99, Docket Number NHTSA-03-15438). The final rule included a one-year phase-in schedule for meeting certain manufacturing requirements. This phase-in included information collection requirements on the part of manufacturers.

Affected Public: Manufacturers of passenger cars, and trucks and multipurpose passenger vehicles with a gross vehicle weight rating (GVWR) of 3,855 kilograms (8,500 pounds) or less, and of buses with a GVWR of 4,536 kilograms (10,000 pounds) or less.

Estimated Total Annual Burden: (60 total burden hours per response) × ($35 per hour) = $42,000.

ADDRESSES: Send comments, within 30 days, to the Office of Information and Regulatory Affairs, Office of Management and Budget, 725 17th Street, NW., Washington, DC 20503, Attention NHTSA Desk Officer.

Comments Are Invited On: Whether the proposed collection of information is necessary for the proper performance of the functions of the Department, including whether the information will have practical utility; the accuracy of the Department's estimate of the burden of the proposed information collection; ways to enhance the quality, utility and clarity of the collection of information on respondents, including the use of automated collection techniques or other forms of information technology.

A comment to OMB must be received within 30 days of publication.

Issued on: October 27, 2004.
Stephen R. Kratzke,
Associate Administrator for Rulemaking.

[FR Doc. 04-24374 Filed 11-1-04; 8:45 am]

BILLING CODE 4910-59-P